DEPARTMENT OF AGRICULTURE

Forest Service

Bend/Fort Rock Ranger District; Deschutes National Forest; Oregon; Lava Rock OHV System

AGENCY: Forest Service, USDA.

ACTION: Notice of intent to prepare an environmental impact statement.

SUMMARY: The USDA Forest Service will prepare an environmental impact statement (EIS) on a proposed action to designate a motorized off-highway vehicle (OHV) trail system on a portion the Bend/Fort Rock Ranger District. In addition, the project would close and decommission roads and unneeded trails. The project area encompasses 140,650 acres and is roughly bounded by U.S. Highway 97 to the west; Newberry National Volcanic Monument to the east, Forest Roads 9701-900 and 1801-400 to the north, and Forest Road 22 to the south. The project area is approximately six miles south of Bend, Oregon. The alternatives will include the proposed action, no action, and additional alternatives that respond to issues generated through the scoping process. The agency will give notice of the full environmental analysis and decision making process so that interested and affected people may participate and contribute to the final decision.

DATES: Comments concerning the scope of the analysis must be received by 30 days following the date that this notice appears in the Federal Register. The Draft Environmental Impact Statement is expected to be available in July 2009 and the final environmental impact statement is expected September 2009.

ADDRESSES: Send written comments to Shane Jeffries, District Ranger, Bend/Ft. Rock Ranger District, 1230 NE 3 St., Suite A-262, Bend, OR 97701. Comments may also be sent via e-mail to comments-pacificnorthwest-deschutes-bend-ftrock@fs.fed.us, or via facsimile to (541) 383-4700. Please put “Lava Rock OHV Project” in the subject line of your e-mail.

Individuals who use telecommunication devices for the deaf (TDD) may call the Federal Information Relay Service (FIRS) at 1-800-877-8339 between 8 a.m. and 8 p.m., Eastern Time, Monday through Friday.

FOR FURTHER INFORMATION CONTACT: Peter Sussmann, Interdisciplinary Team Leader, at (541) 383-5594 or via e-mail at prsussman@fs.fed.us.

SUPPLEMENTARY INFORMATION:

Purpose and Need for Action

The purpose of the Lava Rock OHV Project is to designate appropriate motorized trails for Class 1, Class 2 and Class 3 OHVs while reducing overall road and trail densities within the project area. The need for this site-specific proposal results directly from the implementation of the Forest Service Travel Management Rule, a nationally codified rule that prohibits motorized travel off of designated routes. The Deschutes National Forest is currently in the process of developing an EIS to display the effects of implementing the rule, which is expected to be completed by 2010. Recognizing the effect to the OHV community once the Rule is implemented, the Deschutes and Ochoco National Forests worked in conjunction with the recommendations of the Deschutes Provincial Advisory Committee's Travel Management Working Group to identify opportunities for trail systems in sustainable locations. The Lava Rock OHV area is one of three areas identified by the working group of participants representing motorized and non-motorized recreation interests that had potential community support for a designated trail system.

Additionally, there is a need to meet the objectives for recreation as stated in the Deschutes National Forest Land and Resource Management Plan (“Forest Plan”) and under Forest Service policy. The Forest Plan directs land managers to provide a full range of recreation opportunities, maintain existing trail systems, provide additions or modifications which will meet increasing and changing demands in dispersed recreation, and to designate trails and areas where OHVs can operate legally. Forest Service policy, as stated in the Forest Service Manual at FSM 2355, further directs land managers to provide a diversity of off-road recreational opportunities when use is compatible with established land and resource objectives, where use is consistent with resource capability and suitability, when the off-road opportunity is an appropriate National Forest Recreation Activity, and when there is a demonstrated demand for these opportunities.

Finally, there is an opportunity to reduce negative impacts to resources within the area that are caused by unregulated motorized use. There is a need to reduce the density of system roads within the project area to reduce fragmentation and minimize motorized disturbance to wildlife. Additionally, there is a need to concentrate motorized OHV use on designated routes and close user-created trails in excess of those needed to provide a functional trail system.

Proposed Action

The proposed action would designate OHV trails to provide loop and point-to-point trail experiences with a variety of challenge levels for Class 1, Class 2 and Class 3 OHVs. Approximately 80 miles of dual-use Class 1 and 3 trails, 45 miles of Class 2 trails and 76 miles of Class 3 only trails are proposed for designation on existing system roads, user created trails, and newly constructed trails. Up to three new staging areas and two existing staging areas are proposed for designation to facilitate use and connectivity between the proposed Lava Rock OHV system and the existing East Fort Rock OHV system.

The proposed action would close and obliterate user created trails and non-system roads not designated by the Lava Rock OHV system. It is estimated that more than 50 miles of these trails are present and available for closure. Additionally, system roads that are in excess of administrative or public access needs would be closed or decommissioned in order to reduce road densities in the project area.

Responsible Official

The responsible official will be Shane Jeffries, Bend/Ft. Rock District Ranger, Deschutes National Forest.

Nature of Decision To Be Made

The responsible official will decide whether or not to create a system of OHV trails within the project area, and if so, where the trails and staging areas will be located, which class(es) of OHVs will be allowed on each trail, if and where new trails will be located, and which user-created trails should be closed or kept open. The responsible official will also decide how to mitigate impacts of these actions and will determine when and how monitoring of effects will take place.

Scoping Process

This notice of intent initiates the scoping process, which guides the development of the environmental impact statement. It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Public comments regarding this proposal are requested in order to assist in identifying issues, determine how to best manage the resources, and to focus the analysis. Comments received, including names and addresses of those who comment, will be considered part of the public record on this proposed action and will be available for public inspection. Comments submitted anonymously will be accepted and considered; however, those who submit anonymous comments will not have standing to appeal the subsequent decision under the Code of Federal Regulations, Title 36, Part 215 (36 CFR part 215). Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Rangoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

Dated: March 25, 2009.
A. Shane Jeffries,
Bend/Fort Rock District Ranger.

[FR Doc. E9-8094 Filed 4-9-09; 8:45 am]

BILLING CODE 3410-11-M